DEPARTMENT OF COMMERCE

National Oceanic and Atmospheric Administration

50 CFR Part 635

[I.D. 072501A]

Atlantic Highly Migratory Species Fisheries; Atlantic Bluefin Tuna

AGENCY: National Marine Fisheries Service (NMFS), National Oceanic and Atmospheric Administration (NOAA), Commerce.

ACTION: Adjustment of General category daily retention limit.

SUMMARY: NMFS has determined that the Atlantic bluefin tuna (BFT) General category daily catch limit should be adjusted in order to allow for maximum utilization of the 2001 General category June through August subquota. Therefore, NMFS increases the daily retention limit from one to two large medium or giant BFT for the remainder of the June through August time-period.

DATES: Effective July 30, 2001 through August 31, 2001.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. BFT fishing category quotas and General category effort controls (including time-period subquotas and Restricted-Fishing Days (RFDs)) are specified annually under §§ 635.23(a) and 635.27(a). The 2001 BFT quotas and General category effort controls were implemented July 13, 2001 (66 FR 37421, July 18, 2001).

Adjustment of Daily Retention Limit

Under § 635.23(a)(4), NMFS may increase or decrease the daily retention limit of large medium and giant BFT over a range from zero (on RFDs) to a maximum of three per vessel to allow for maximum utilization of the quota for BFT. Based on a review of dealer reports, daily landing trends, and the availability of BFT on the fishing grounds, NMFS has determined that an increase of the daily retention limit is appropriate and necessary to allow full use of the June through August subquota while ensuring an August fishery. Therefore, NMFS adjusts the daily retention limit for the remainder of the June through August subquota time-period to two large medium or giant BFT per vessel. This adjustment does not affect the previously scheduled RFDs for August (August 11, 12, and 13), on which the daily retention in the General category will be zero, and on which General category vessels may not fish for BFT.

The intent of this adjustment is to allow for maximum utilization of the June through August subquota (specified under § 635.27(a)) by General category participants in order to help achieve optimum yield in the General category fishery, to collect a broad range of data for stock monitoring purposes, and to be consistent with the objectives of the Fishery Management Plan for Atlantic Tunas, Swordfish and Sharks.

While catch rates have been low so far this season, NMFS recognizes that they may increase. In addition, due to the temporal and geographical nature of the fishery, certain gear types and areas are more productive at various times during the fishery. In order to ensure that the June through August subquota is not filled prematurely and to ensure equitable fishing opportunities in all areas and for all gear types, NMFS has not waived the RFDs in August, which correspond to market closures in Japan, and could promote better ex-vessel prices.

Classification

This action is taken under § 635.23(a)(4) and is exempt from review under Executive Order 12866.

Authority: 16 U.S.C. 971 et seq. and 1801 et seq.

Dated: July 27, 2001.
Bruce C. Morehead,
Acting Director, Office of Sustainable Fisheries, National Marine Fisheries Service.

[FR Doc. 01-19235 Filed 7-27-01; 4:53 pm]

BILLING CODE 3510-22-S